DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground ‸ Elevation in meters (MSL) Modified
Unincorporated Areas of Carbon County, Montana
Docket No.: FEMA-B-1221
Montana | Unincorporated Areas of Carbon County | Clarks Fork Yellowstone River | Approximately 1.89 miles downstream of Twany Trail | +3304
|  |  | Approximately 770 feet downstream of the Rock Creek (Lower) confluence | +3405
* National Geodetic Vertical Datum.
+ North American Vertical Datum.
# Depth in feet above ground.
‸ Mean Sea Level, rounded to the nearest 0.1 meter.
ADDRESSES
Unincorporated Areas of Carbon County
Maps are available for inspection at 17 West 11th Street, Red Lodge, MT 59068.

Flooding source(s) | Location of referenced elevation | * Elevation in feet (NGVD) + Elevation in feet (NAVD) # Depth in feet above ground ‸ Elevation in meters (MSL) Modified | Communities affected
Indian River County, FL, and Incorporated Areas
Docket No.: FEMA-B-1148
Collier Creek | Approximately 550 feet upstream of the confluence with South Prong Creek | +5 | City of Sebastian, Unincorporated Areas of Indian River County.
| Approximately 1,320 feet upstream of Fleming Street | +19
FT-1 | Within area of multiple ponding areas bounded by 17th Street Southwest to the north, 27th Avenue Southwest to the west, 21st Street Southwest to the south, and 20th Avenue Southwest to the east | +21 | Unincorporated Areas of Indian River County.
Lateral J Tributary 1 | At the confluence with Lateral J | +18 | Unincorporated Areas of Indian River County.
| Approximately 1,450 feet upstream of the confluence with Lateral J | +20
Lateral J Tributary 1-1 | Just upstream of 18th Place Southwest | +18 | Unincorporated Areas of Indian River County.
| Approximately 1,750 feet upstream of 18th Place Southwest | +20
Lateral J Tributary 1-2 | At the confluence with Lateral J Tributary 1 | +18 | Unincorporated Areas of Indian River County.
| Approximately 1.1 mile upstream of the confluence with Lateral J Tributary 1 | +22
ML-1 | Within area of multiple ponding areas bounded by 17th Street Southwest to the north, 43rd Avenue Southwest to the west, 25th Street Southwest to the south, and 27th Avenue Southwest to the east | +21 | Unincorporated Areas of Indian River County.
ML-2 | Within area of multiple ponding areas bounded by 17th Street Southwest to the north, 43rd Avenue Southwest to the west, 25th Street Southwest to the south, and 27th Avenue Southwest to the east | +22 | Unincorporated Areas of Indian River County.
ML-3 | Within area of multiple ponding areas bounded by 17th Street Southwest to the north, 43rd Avenue Southwest to the west, 25th Street Southwest to the south, and 27th Avenue Southwest to the east | +21 | Unincorporated Areas of Indian River County.
ML-4 | Within area of multiple ponding areas bounded by 17th Street Southwest to the north, 43rd Avenue Southwest to the west, 25th Street Southwest to the south, and 27th Avenue Southwest to the east | +21 | Unincorporated Areas of Indian River County.
ML-5 | Within area of multiple ponding areas bounded by 17th Street Southwest to the north, 43rd Avenue Southwest to the west, 25th Street Southwest to the south, and 27th Avenue Southwest to the east | +21 | Unincorporated Areas of Indian River County.
ML-6 | Within area of multiple ponding areas bounded by 17th Street Southwest to the north, 43rd Avenue Southwest to the west, 25th Street Southwest to the south, and 27th Avenue Southwest to the east | +20 | Unincorporated Areas of Indian River County.
ML-7 | Within area of multiple ponding areas bounded by 17th Street Southwest to the north, 43rd Avenue Southwest to the west, 25th Street Southwest to the south, and 27th Avenue Southwest to the east | +21 | Unincorporated Areas of Indian River County.
ML-8 | Within area of multiple ponding areas bounded by 17th Street Southwest to the north, 43rd Avenue Southwest to the west, 25th Street Southwest to the south, and 27th Avenue Southwest to the east | +20 | Unincorporated Areas of Indian River County.
ML-9 | Within area of multiple ponding areas bounded by 17th Street Southwest to the north, 43rd Avenue Southwest to the west, 25th Street Southwest to the south, and 27th Avenue Southwest to the east | +20 | Unincorporated Areas of Indian River County.
ML-10 | Within area of multiple ponding areas bounded by 17th Street Southwest to the north, 43rd Avenue Southwest to the west, 25th Street Southwest to the south, and 27th Avenue Southwest to the east | +20 | Unincorporated Areas of Indian River County.
ML-11 | Within area of multiple ponding areas bounded by 17th Street Southwest to the north, 43rd Avenue Southwest to the west, 25th Street Southwest to the south, and 27th Avenue Southwest to the east | +20 | Unincorporated Areas of Indian River County.
ML-12 | Within area of multiple ponding areas bounded by 17th Street Southwest to the north, 43rd Avenue Southwest to the west, 25th Street Southwest to the south, and 27th Avenue Southwest to the east | +20 | Unincorporated Areas of Indian River County.
ML-13 | Within area of multiple ponding areas bounded by 17th Street Southwest to the north, 43rd Avenue Southwest to the west, 25th Street Southwest to the south, and 27th Avenue Southwest to the east | +20 | Unincorporated Areas of Indian River County.
ML-14 | Within area of multiple ponding areas bounded by 17th Street Southwest to the north, 43rd Avenue Southwest to the west, 25th Street Southwest to the south, and 27th Avenue Southwest to the east | +21 | Unincorporated Areas of Indian River County.
ML-15 | Within area of multiple ponding areas bounded by 17th Street Southwest to the north, 43rd Avenue Southwest to the west, 25th Street Southwest to the south, and 27th Avenue Southwest to the east | +22 | Unincorporated Areas of Indian River County.
ML-16 | Within area of multiple ponding areas bounded by 17th Street Southwest to the north, 43rd Avenue Southwest to the west, 25th Street Southwest to the south, and 27th Avenue Southwest to the east | +20 | Unincorporated Areas of Indian River County.
ML-17 | Within area of multiple ponding areas bounded by 17th Street Southwest to the north, 43rd Avenue Southwest to the west, 25th Street Southwest to the south, and 27th Avenue Southwest to the east | +20 | Unincorporated Areas of Indian River County.
ML-18 | Within area of multiple ponding areas bounded by 17th Street Southwest to the north, 43rd Avenue Southwest to the west, 25th Street Southwest to the south, and 27th Avenue Southwest to the east | +20 | Unincorporated Areas of Indian River County.
ML-19 | Within area of multiple ponding areas bounded by 17th Street Southwest to the north, 43rd Avenue Southwest to the west, 25th Street Southwest to the south, and 27th Avenue Southwest to the east | +20 | Unincorporated Areas of Indian River County.
ML-20 | Within area of multiple ponding areas bounded by 17th Street Southwest to the north, 43rd Avenue Southwest to the west, 25th Street Southwest to the south, and 27th Avenue Southwest to the east | +20 | Unincorporated Areas of Indian River County.
ML-21 | Within area of multiple ponding areas bounded by 17th Street Southwest to the north, 43rd Avenue Southwest to the west, 25th Street Southwest to the south, and 27th Avenue Southwest to the east | +21 | Unincorporated Areas of Indian River County.
ML-22 | Within area of multiple ponding areas bounded by 17th Street Southwest to the north, 43rd Avenue Southwest to the west, 25th Street Southwest to the south, and 27th Avenue Southwest to the east | +21 | Unincorporated Areas of Indian River County.
ML-23 | Within area of multiple ponding areas bounded by 17th Street Southwest to the north, 43rd Avenue Southwest to the west, 25th Street Southwest to the south, and 27th Avenue Southwest to the east | +21 | Unincorporated Areas of Indian River County.
ML-24 | Within area of multiple ponding areas bounded by 17th Street Southwest to the north, 43rd Avenue Southwest to the west, 25th Street Southwest to the south, and 27th Avenue Southwest to the east | +20 | Unincorporated Areas of Indian River County.
ML-25 | Within area of multiple ponding areas bounded by 17th Street Southwest to the north, 43rd Avenue Southwest to the west, 25th Street Southwest to the south, and 27th Avenue Southwest to the east | +22 | Unincorporated Areas of Indian River County.
ML-26 | Within area of multiple ponding areas bounded by 17th Street Southwest to the north, 43rd Avenue Southwest to the west, 25th Street Southwest to the south, and 27th Avenue Southwest to the east | +20 | Unincorporated Areas of Indian River County.
P-1 | Within area of multiple ponding areas bounded by Barber Street to the north and west, 85th Street to the south, and U.S. Route 1 to the east | +19 | City of Sebastian.
P-2 | Within area of multiple ponding areas bounded by Barber Street to the north and west, 85th Street to the south, and U.S. Route 1 to the east | +18 | City of Sebastian.
P-3 | Within area of multiple ponding areas bounded by Barber Street to the north and west, 85th Street to the south, and U.S. Route 1 to the east | +18 | City of Sebastian.
SH-1 | Within area of multiple ponding areas bounded by Main Street to the north and west, and Sebastian Boulevard to the south and east | +22 | City of Sebastian.
SH-2 | Within area of multiple ponding areas bounded by Main Street to the north and west, and Sebastian Boulevard to the south and east | +22 | City of Sebastian.
SH-3 | Within area of multiple ponding areas bounded by Main Street to the north and west, and Sebastian Boulevard to the south and east | +22 | City of Sebastian.
SH-4 | Within area of multiple ponding areas bounded by Main Street to the north and west, and Sebastian Boulevard to the south and east | +22 | City of Sebastian.
SH-5 | Within area of multiple ponding areas bounded by Main Street to the north and west, and Sebastian Boulevard to the south and east | +22 | City of Sebastian.
SH-6 | Within area of multiple ponding areas bounded by Main Street to the north and west, and Sebastian Boulevard to the south and east | +22 | City of Sebastian.
SH-7 | Within area of multiple ponding areas bounded by Main Street to the north and west, and Sebastian Boulevard to the south and east | +22 | City of Sebastian.
SH-8 | Within area of multiple ponding areas bounded by Main Street to the north and west, and Sebastian Boulevard to the south and east | +21 | City of Sebastian.
SH-9 | Within area of multiple ponding areas bounded by Main Street to the north and west, and Sebastian Boulevard to the south and east | +21 | City of Sebastian.
SH-10 | Within area of multiple ponding areas bounded by Main Street to the north and west, and Sebastian Boulevard to the south and east | +20 | City of Sebastian.
SH-11 | Within area of multiple ponding areas bounded by Main Street to the north and west, and Sebastian Boulevard to the south and east | +21 | City of Sebastian.
SH-12 | Within area of multiple ponding areas bounded by Main Street to the north and west, and Sebastian Boulevard to the south and east | +22 | City of Sebastian.
SH-13 | Within area of multiple ponding areas bounded by Main Street to the north and west, and Sebastian Boulevard to the south and east | +23 | City of Sebastian.
SL-1 | Within area of multiple ponding areas bounded by Sebastian Boulevard to the north and west, Genesee Avenue to the south, and Laconia Street to the east | +21 | City of Sebastian.
SL-5 | Within area of multiple ponding areas bounded by Sebastian Boulevard to the north and west, Genesee Avenue to the south, and Laconia Street to the east | +20 | City of Sebastian.
SL-6 | Within area of multiple ponding areas bounded by Sebastian Boulevard to the north and west, Genesee Avenue to the south, and Laconia Street to the east | +20 | City of Sebastian.
SL-7 | Within area of multiple ponding areas bounded by Sebastian Boulevard to the north and west, Genesee Avenue to the south, and Laconia Street to the east | +20 | City of Sebastian.
SL-8 | Within area of multiple ponding areas bounded by Sebastian Boulevard to the north and west, Genesee Avenue to the south, and Laconia Street to the east | +21 | City of Sebastian.
SL-9 | Within area of multiple ponding areas bounded by Sebastian Boulevard to the north and west, Genesee Avenue to the south, and Laconia Street to the east | +20 | City of Sebastian.
SL-10 | Within area of multiple ponding areas bounded by Sebastian Boulevard to the north and west, Genesee Avenue to the south, and Laconia Street to the east | +20 | City of Sebastian.
SL-11 | Within area of multiple ponding areas bounded by Sebastian Boulevard to the north and west, Genesee Avenue to the south, and Laconia Street to the east | +20 | City of Sebastian.
SL-12 | Within area of multiple ponding areas bounded by Sebastian Boulevard to the north and west, Genesee Avenue to the south, and Laconia Street to the east | +21 | City of Sebastian.
SL-13 | Within area of multiple ponding areas bounded by Sebastian Boulevard to the north and west, Genesee Avenue to the south, and Laconia Street to the east | +20 | City of Sebastian.
SL-14 | Within area of multiple ponding areas bounded by Sebastian Boulevard to the north and west, Genesee Avenue to the south, and Laconia Street to the east | +20 | City of Sebastian.
SL-15 | Within area of multiple ponding areas bounded by Sebastian Boulevard to the north and west, Genesee Avenue to the south, and Laconia Street to the east | +20 | City of Sebastian.
SL-16 | Within area of multiple ponding areas bounded by Genesee Avenue to the north, Stony Point Drive to the west, and Stonecrop Street to the south and east | +14 | City of Sebastian.
SL-17 | Within area of multiple ponding areas bounded by Crystal Mist Avenue to the north, Laconia Street to the west, Concha Drive to the south, and Clearbrook Street to the east | +15 | City of Sebastian.
SL-18 | Within area of multiple ponding areas bounded by Benedictine Terrace to the north, Cheltenham Street to the west, Rolling Hill Drive to the south, and Cownie Lane to the east | +19 | City of Sebastian.
SL-19 | Within area of multiple ponding areas bounded by Belfast Terrace to the north, Haverford Lane to the west, Browning Terrace to the south, and Coverbrook Lane to the east | +20 | City of Sebastian.
Schumann Waterway | Approximately 250 feet downstream of Schumann Drive | +15 | City of Sebastian, Unincorporated Areas of Indian River County.
| Approximately 0.7 mile upstream of Schumann Drive | +23
Stream 1 | Approximately 207 feet upstream of 14th Street Southwest | +22 | Unincorporated Areas of Indian River County.
| Just upstream of 17th Street Southwest | +22
Vero Lakes Channel A (Landward of Right Levee) | Just upstream of 85th Street | +20 | Unincorporated Areas of Indian River County.
| Approximately 2.7 miles upstream of 85th Street | +23
* National Geodetic Vertical Datum.
+ North American Vertical Datum.
# Depth in feet above ground.
‸ Mean Sea Level, rounded to the nearest 0.1 meter.
ADDRESSES
City of Sebastian
Maps are available for inspection at City Hall, 1225 Main Street, Sebastian, FL 32958.
Unincorporated Areas of Indian River County
Maps are available for inspection at the Indian River County Administration Building, 1840 25th Street, Vero Beach, FL 32960.
Webster County, Iowa, and Incorporated Areas
Docket No.: FEMA-B-1221
Des Moines River | Approximately 1.6 miles downstream of U.S. Route 20 | +987 | City of Fort Dodge, Unincorporated Areas of Webster County.
| Approximately 2.1 miles upstream of East Hawkeye Avenue | +1008
Lizard Creek | At the Des Moines River confluence | +995 | City of Fort Dodge, Unincorporated Areas of Webster County.
| Approximately 0.9 mile upstream of Phinney Park Drive | +999
Solider Creek | At the Des Moines River confluence | +993 | City of Fort Dodge, Unincorporated Areas of Webster County.
| Approximately 1.2 miles upstream of Solider Creek Drive | +1098
* National Geodetic Vertical Datum.
+ North American Vertical Datum.
# Depth in feet above ground.
‸ Mean Sea Level, rounded to the nearest 0.1 meter.
ADDRESSES
City of Fort Dodge
Maps are available for inspection at 819 1st Avenue South, Fort Dodge, IA 50501.
Unincorporated Areas of Webster County
Maps are available for inspection at the Webster County Courthouse, 701 Central Avenue, 4th Floor, Fort Dodge, IA 50501.
Pottawatomie County, Kansas, and Incorporated Areas
Docket No.: FEMA-B-1104 and FEMA-B-1140
Big Blue River Tributary | Approximately 100 feet upstream of the confluence with the Big Blue River | +1010 | Unincorporated Areas of Pottawatomie County.
| Approximately 1,200 feet upstream of Junietta Road | +1058
Elbo Creek | Approximately 1,600 feet upstream of the confluence with the Big Blue River | +1010 | Unincorporated Areas of Pottawatomie County.
| Approximately 1,400 feet upstream of the confluence with School Creek | +1064
Elbo Creek Tributary | At the confluence with Elbo Creek | +1042 | Unincorporated Areas of Pottawatomie County.
| Approximately 950 feet upstream of Junietta Road | +1068
North Unnamed Tributary | Approximately 500 feet northeast of the intersection of U.S. Route 24 and Walsh Road | #2 | City of Wamego, Unincorporated Areas of Pottawatomie County.
| Approximately 1.0 mile northeast of the intersection of U.S. Route 24 and Walsh Road | #2
School Creek | At the confluence with Elbo Creek | +1061 | Unincorporated Areas of Pottawatomie County.
| Approximately 0.5 mile upstream of the confluence with Elbo Creek | +1075
* National Geodetic Vertical Datum.
+ North American Vertical Datum.
# Depth in feet above ground.
‸ Mean Sea Level, rounded to the nearest 0.1 meter.
ADDRESSES
City of Wamego
Maps are available for inspection at City Hall, 430 Lincoln Avenue, Wamego, KS 66547.
Unincorporated Areas of Pottawatomie County
Maps are available for inspection at the Pottawatomie County Courthouse, Zoning Office, 207 North 1st Street, Westmoreland, KS 66549.
Dickinson County, Michigan (All Jurisdictions)
Docket No.: FEMA-B-1223
Menominee River | Approximately 1.1 miles downstream of Little Quinnesec Dam | +888 | City of Kingsford, Township of Breitung.
| At the Iron County boundary | +1118
* National Geodetic Vertical Datum.
+ North American Vertical Datum.
# Depth in feet above ground.
‸ Mean Sea Level, rounded to the nearest 0.1 meter.
ADDRESSES
City of Kingsford
Maps are available for inspection at City Hall, 305 South Carpenter Avenue, Kingsford, MI 49802.
Township of Breitung
Maps are available for inspection at the Breitung Township Hall, 3851 Menominee Street, Quinnesec, MI 49876.
Macomb County, Michigan (All Jurisdictions)
Docket No.: FEMA-B-1223
Anchor Bay | Entire shoreline within community | +579 | City of New Baltimore, Township of Chesterfield, Township of Harrison.
Auvase Creek/Sutherland-Oemig Drain | Approximately 960 feet downstream of Jefferson Avenue | +579 | Township of Chesterfield.
| Approximately 850 feet downstream of Sugarbush Road | +579
Crapaud Creek | Approximately 860 feet downstream of Main Street | +579 | City of New Baltimore.
| Approximately 340 feet downstream of Perrin Street | +579
Fish Creek | Approximately 1,170 feet downstream of Callens Road | +579 | Township of Chesterfield.
| Approximately 1,585 feet upstream of Callens Road | +579
Salt River | Approximately 0.5 mile downstream of Jefferson Avenue | +579 | Township of Chesterfield.
| Approximately 70 feet downstream of 23 Mile Road | +579
* National Geodetic Vertical Datum.
+ North American Vertical Datum.
# Depth in feet above ground.
‸ Mean Sea Level, rounded to the nearest 0.1 meter.
ADDRESSES
City of New Baltimore
Maps are available for inspection at 36535 Green Street, New Baltimore, MI 48047.
Township of Chesterfield
Maps are available for inspection at 47275 Sugarbush Road, Chesterfield, MI 48047.
Township of Harrison
Maps are available for inspection at 38151 L'Anse Creuse Street, Harrison Township, MI 48045.
Santa Fe County, New Mexico, and Incorporated Areas
Docket No: FEMA-B-1196
Arroyo Barranca | Approximately 100 feet upstream of the Arroyo Mascaras confluence | +7022 | City of Santa Fe.
| Approximately 100 feet upstream of Camino Del Norte | +7338
Arroyo De La Paz | At the Arroyo De Los Antores confluence | +6722 | City of Santa Fe.
| Approximately 1,000 feet upstream of Rodeo Road | +6802
Arroyo De La Piedra | Approximately 300 feet downstream of Vallecita Drive | +7103 | City of Santa Fe.
| Approximately 1,400 feet upstream of Barranca Drive | +7435
Arroyo De Los Amigos | Approximately 100 feet upstream of the Arroyo De Los Chamisos confluence | +6852 | City of Santa Fe.
| Approximately 1,400 feet upstream of Saint Michaels Drive | +7016
Arroyo De Los Antores | Approximately 200 feet upstream of the Arroyo De Los Chamisos confluence | +6701 | City of Santa Fe.
| Approximately 600 feet upstream of Zia Road | +6738
Arroyo De Los Antores Ponding Area | Entire shoreline | +6750 | City of Santa Fe.
Arroyo De Los Antores Sheet Flow | Sheet flow areas along the Arroyo De Los Antores (Lowest Flood Depth) | #1 | City of Santa Fe.
| Sheet flow areas along the Arroyo De Los Antores (Highest Flood Depth) | #2
Arroyo En Medio | Approximately 500 feet upstream of the Arroyo De Los Chamisos confluence | +6754 | City of Santa Fe, Unincorporated Areas of Santa Fe County.
| Approximately 1,200 feet upstream of Cloudstone Drive | +7510
Arroyo Hondo | At the Arroyo De Los Chamisos confluence | +6098 | City of Santa Fe, Unincorporated Areas of Santa Fe County.
| Approximately 70 feet upstream of County Road 67F | +7428
Arroyo Hondo Split Flow | Approximately 0.7 mile upstream of Rancho Viejo Boulevard | +6400 | Unincorporated Areas of Santa Fe County.
| Approximately 1.8 miles upstream of Arroyo Viejo Road | +6483
Arroyo Ranchito | Approximately 150 feet upstream of the Arroyo De La Piedra confluence | +7043 | City of Santa Fe.
| Approximately 600 feet upstream of Camino Encantado | +7320
Arroyo Saiz | At the upstream side of Avenida Primera | +7191 | City of Santa Fe.
| Approximately 0.6 mile upstream of Avenida Primera | +7339
Big Tesuque Creek | At the Rio Tesuque confluence | +6930 | Unincorporated Areas of Santa Fe County.
| Approximately 1.0 mile upstream of County Road 72A | +7234
Canada Ancha | Approximately 0.4 mile upstream of the Santa Fe River confluence. | +7194 | City of Santa Fe, Unincorporated Areas of Santa Fe County.
| Approximately 0.3 mile upstream of La Entrada | +7780
East Arroyo De La Piedra | At the Arroyo De La Piedra confluence | +7199 | City of Santa Fe.
| Approximately 0.7 mile upstream of Calle Conejo | +7585
Little Tesuque Creek | At the Rio Tesuque confluence | +6930 | Unincorporated Areas of Santa Fe County.
| Approximately 100 feet upstream of Bishops Lodge Road | +7140
Northeast Arroyo De Los Pinos | Approximately 80 feet upstream of 6th Street | +6828 | City of Santa Fe.
| Approximately 1,100 feet upstream of Luisa Street | +6955
Rio Tesuque | Approximately 0.5 mile downstream of Tesuque Village Road | +6693 | Pueblo of Tesuque, Unincorporated Areas of Santa Fe County.
| At the Big Tesuque Creek and Little Tesuque Creek confluence | +6930
Santa Cruz River | Approximately 1,000 feet downstream of State Route 106 | +5670 | City of Espanola, Santa Clara Indian Reservation, Unincorporated Areas of Santa Fe County.
| Approximately 0.5 mile upstream of State Route 106 | +5702
Unnamed Stream 31 | At the Rio Tesuque confluence | +6741 | City of Santa Fe, Unincorporated Areas of Santa Fe County.
| Approximately 500 feet upstream of Sangre De Cristo Drive | +7105
* National Geodetic Vertical Datum.
+ North American Vertical Datum.
# Depth in feet above ground.
‸ Mean Sea Level, rounded to the nearest 0.1 meter.
ADDRESSES
:
City of Espanola
Maps are available for inspection at City Hall, 405 North Paseo de Onate, Espanola, NM 87532.
City of Santa Fe
Maps are available for inspection at City Hall, 200 Lincoln Avenue, Santa Fe, NM 87504.
Pueblo of Tesuque
Maps are available for inspection at the Pueblo of Tesuque Governor's Office, TP 804 Building 4, Santa Fe, NM 87506.
Santa Clara Indian Reservation
Maps are available for inspection at the Santa Clara Indian Reservation Governor's Office, 1 Kee Street, Espanola, NM 87532.
Unincorporated Areas of Santa Fe County
Maps are available for inspection at the Santa Fe County Building, 102 Grant Avenue, Santa Fe, NM 87504.
Johnson County, Texas, and Incorporated Areas
Docket No.: FEMA-B-1130
Hurst Creek | Just upstream of County Road 601A | +679 | City of Burleson, Unincorporated Areas of Johnson County.
| Approximately 540 feet upstream of Hidden Court | +721
Little Booger Creek | Approximately 375 feet downstream of Summercrest Boulevard | +739 | City of Burleson.
| Approximately 725 feet upstream of Marcia Lane | +769
Low Branch | Approximately 1,600 feet downstream of U.S. Route 287 Business | +616 | City of Mansfield.
| Just upstream of U.S. Route 287 Business | +622
McAnear Creek | At the confluence with East Buffalo Creek | +732 | City of Cleburne.
| Approximately 1,850 feet upstream of Kilpatrick Avenue | +817
Quil Miller Creek | Approximately 450 feet downstream of Hidden Creek | +683 | City of Burleson, Unincorporated Areas of Johnson County.
| Approximately 75 feet east of Litchfield Lane | +695
Shannon Creek | Approximately 1,500 feet upstream of the confluence with Unnamed Tributary to Shannon Creek | +758 | City of Burleson.
| Just downstream of County Road 1020 | +793
Tributary of Valley Branch | Approximately 500 feet upstream of County Road 608 | +674 | Unincorporated Areas of Johnson County.
| Approximately 1,000 feet upstream of County Road 608 | +674
Unnamed Tributary to Shannon Creek | Approximately 0.30 mile upstream of the confluence with Shannon Creek | +756 | City of Burleson.
| Approximately 0.98 mile upstream of the confluence with Shannon Creek | +773
VC-8A Stream | Just upstream of Greenway Drive | +788 | City of Burleson, Unincorporated Areas of Johnson County.
| Approximately 100 feet upstream of County Road 802 | +818
Valley Branch | Approximately 0.38 mile downstream of County Road 529 | +673 | Unincorporated Areas of Johnson County.
| Approximately 1,500 feet downstream of County Road 529 | +673
Village Creek | At the northern Tarrant County boundary | +658 | City of Burleson.
| Approximately 0.44 mile upstream of the confluence with North Creek | +677
West Buffalo Creek | Approximately 650 feet downstream of Westhill Drive | +799 | City of Cleburne.
| Approximately 300 feet downstream of U.S. Route 67 | +800
* National Geodetic Vertical Datum.
+ North American Vertical Datum.
# Depth in feet above ground.
‸ Mean Sea Level, rounded to the nearest 0.1 meter.
ADDRESSES
City of Burleson
Maps are available for inspection at City Hall, 141 West Renfro Street, Burleson, TX 76028.
City of Cleburne
Maps are available for inspection at City Hall, 10 North Robinson Street, Cleburne, TX 76033.
City of Mansfield
Maps are available for inspection at 1200 East Broad Street, Mansfield, TX 76063.
Unincorporated Areas of Johnson County
Maps are available for inspection at the Johnson County Courthouse, 2 North Main Street, Cleburne, TX 76033.

(Catalog of Federal Domestic Assistance No. 97.022, “Flood Insurance.”)

Dated: November 8, 2012.
James A. Walke,
Acting Deputy Associate Administrator for Mitigation, Department of Homeland Security, Federal Emergency Management Agency.

[FR Doc. 2012-29255 Filed 12-3-12; 8:45 am]

BILLING CODE 9110-12-P